DEPARTMENT OF ENERGY

Federal Energy Regulatory Commission

[Docket No. RP97-374-003]

Northwest Pipeline Corporation; Notice of Negotiated Rates

January 31, 2002.

Take notice that on January 18, 2002, Northwest Pipeline Corporation (Northwest) a Rate Schedule TF-1 negotiated rate and non-conforming service agreement. Northwest also tendered for filing as part of its FERC Gas Tariff, Third Revised Volume No. 1, the following tariff sheets, with an effective date of February 18, 2002:

Sixth Revised Sheet No. 1

Eleventh Revised Sheet No. 364

Fourth Revised Sheet No. 366

Sheet Nos. 367 through 369

Original Sheet No. 370

Sheet Nos. 371 through 374

Northwest states that the purpose of this filing is to implement a negotiated rate between itself and Calpine Energy Services, L.P. and to reflect the negotiated rate agreement in its tariff. Northwest states that because this agreement contains a provision that is not included in the form of service agreement in Northwest's tariff, Northwest is submitting a copy of this service agreement and is adding it to the list of non-conforming service agreements in its tariff. Northwest states that it is also removing two terminated service agreements from its list of non-conforming agreements.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-2780 Filed 2-5-02; 8:45 am]

BILLING CODE 6717-01-P